DEPARTMENT OF HOUSING AND URBAN DEVELOPMENT

[Docket No. FR-4900-C-02B]

Notice of HUD's Fiscal Year (FY) 2004, Notice of Funding Availability (NOFA), Policy Requirements and General Section to FY2004 SuperNOFA for HUD's Discretionary Grant Programs; Correction

AGENCY: Office of the Secretary, HUD.

ACTION: Super Notice of Funding Availability (SuperNOFA) for HUD Discretionary Grant Programs; correction.

SUMMARY: This document makes corrections to the documents published in the Federal Register on June 22, 2004, and on May 14, 2004, concerning HUD's Fiscal Year (FY) 2004 SuperNOFA. The corrections pertain to the General Section to the SuperNOFA; the Section 202 Supportive Housing for the Elderly Program (Section 202 Program); the Section 811 Program of Supportive Housing for Persons with Disabilities (Section 811 Program); and the Public Housing Resident Opportunities and Self-Sufficiency (ROSS) Program, Resident Service Delivery Models-Family.

FOR FURTHER INFORMATION CONTACT: For the programs listed in this notice, please contact the offices or the individuals listed under the “Agency Contact(s)” heading in the respective program sections of the SuperNOFA, published on May 14, 2004.

SUPPLEMENTARY INFORMATION: On May 14, 2004 (69 FR 26941), HUD published its Fiscal Year (FY) 2004, Notice of Funding Availability (NOFA), Policy Requirements and General Section to the SuperNOFA for HUD's Discretionary Grant Programs. On May 28, 2004 (69 FR 30697), and on June 22, 2004 (69 FR 34878), respectively, HUD published a technical correction for several of the programs included in the SuperNOFA. This notice published in today's Federal Register corrects the omission of Portland, Oregon as an Enterprise Community (EC) from the list in Appendix E of the May 14, 2004, document. Further, this document corrects the statement in the May 14, 2004, document with respect to the determination of the project rental assistance contract (PRAC) contract authority for both the Section 202 and the Section 811 programs. Additionally, this document makes a correction to an erroneous reference to the application due date published in the June 22, 2004, document with respect to the Public Housing Resident Opportunities and Self-Sufficiency (ROSS) Program Resident Service Delivery Models-Family. Accordingly, this document makes the following corrections:

Notice of HUD's Fiscal Year (FY) 2004, Notice of Funding Availability (NOFA), Policy Requirements and General Section to the SuperNOFA for HUD's Discretionary Programs

Appendix E, beginning on page 27010 of the May 14, 2004, NOFA, contains the List of EZs, ECs, Urban Enhanced Enterprise Communities, and Renewal Communities (List). Portland, Oregon was inadvertently omitted from the List. In the June 22, 2004, document, HUD advised that it was modifying the List and would publish a modification to the List on its Web site. Today's document makes a further modification to the List by adding Portland as a designated EC to the List. HUD will publish the modified List on its Web site at http://www.hud.gov/offices/adm/grants/fundsavail.cfm.

Section 202 Supportive Housing for the Elderly Program (Section 202 Program)

On page 27711 of the May 14, 2004, NOFA under section I.C.2. captioned “PRAC Funds,” HUD mistakenly described the determination of the PRAC contract authority as “by multiplying the number of revenue units for elderly persons by the appropriate operating cost standard and then multiplying the result by 12 (months).” The underscored phrase, “and then multiplying the result by 12 (months),” adds an additional step in the calculation that is incorrect. This document corrects the description of the determination of the PRAC contract by removing the underscored language from section I.C.2. As corrected, section I.C.2. now reads as follows:

2. PRAC Funds. The PRAC contract authority is determined by multiplying the number of revenue units for elderly persons by the appropriate operating cost standard. The PRAC budget authority is determined by multiplying the PRAC contract authority by 5 (years). The operating cost standards will be published by Notice.

Section 811 Program of Supportive Housing for Persons with Disabilities (Section 811 Program)

On page 27755 of the May 14, 2004, NOFA under section I.D.2. captioned “PRAC Funds,” HUD mistakenly described the determination of the PRAC contract authority as “by multiplying the number of units for residents with disabilities in an independent living project or the number of residents with disabilities in a group home by the appropriate operating cost standard and then multiplying the result by 12 (months).” The underscored phrase, “and then multiplying the result by 12 (months),” adds an additional step in the calculation that is incorrect. This document corrects the description of the determination of the PRAC contract by removing the underscored language from section I.D.2. As corrected, section I.D.2. now reads as follows:

PRAC Funds. The PRAC contract authority is determined by multiplying the number of units for residents with disabilities in an independent living project or the number of residents with disabilities in a group home by the appropriate operating cost standard. The PRAC budget authority is determined by multiplying the PRAC contract authority by 5 (years). The operating cost standards will be published by Notice.

Public Housing Resident Opportunities and Self-Sufficiency Program

On page 34879, column 3 of the June 22, 2004, document under the caption Public Housing Resident Opportunities and Self-Sufficiency Program, it is erroneously stated that the “application due date for Resident Service Delivery Models-Family is extended to August 3, 2004.” In fact, the application due date is August 24, 2004, as extended and correctly stated under DATES in columns 1 and 2 of page 34878.

Dated: July 14, 2004.
Aaron Santa Anna,
Assistant General Counsel for Regulations.

[FR Doc. 04-16444 Filed 7-19-04; 8:45 am]

BILLING CODE 4210-32-P